DEPARTMENT OF ENERGY

Federal Energy Regulatory Commission

[Docket Nos. CP12-509-000; CP12-29-000]

Freeport LNG Development, L.P.; FLNG Liquefaction LLC; FLNG Liquefaction 2, LLC; FLNG Liquefaction 3, LLC; Notice of Availability of the Draft Environmental Impact Statement for the Proposed Phase II Modification and Liquefaction Projects

The staff of the Federal Energy Regulatory Commission (FERC or Commission) has prepared a draft environmental impact statement (EIS) for the Freeport LNG Phase II Modification Project and the Liquefaction Project (Projects) proposed by Freeport LNG Development, L.P., FLNG Liquefaction LLC, FLNG Liquefaction 2, LLC, and FLNG Liquefaction 3, LLC (collectively referred to as Freeport LNG) in the above-referenced dockets. Freeport LNG requests authorization to export up to 13.2 million tons of liquefied natural gas (LNG) per year from its proposed Liquefaction Plant and associated facilities in Brazoria County, Texas and modify its previously approved Phase II Project facilities within the town of Quintana.

The draft EIS assesses the potential environmental effects of the construction and operation of the Projects in accordance with the requirements of the National Environmental Policy Act (NEPA). The FERC staff concludes that approval of the Projects would have some adverse impacts; however, most of these impacts would be reduced to less than significant levels with the implementation of Freeport LNG's proposed mitigation and the additional measures recommended by the FERC staff in the draft EIS.

The United States Department of Energy (USDOE), United States Environmental Protection Agency (USEPA), United States Department of Transportation (USDOT), the United States Army Corps of Engineers (USACE), and the National Oceanic Atmospheric Administration (NOAA) Fisheries participated as cooperating agencies in the preparation of the draft EIS. Cooperating agencies have jurisdiction by law or special expertise with respect to resources potentially affected by the proposal and participate in the NEPA analysis. The USACE, USEPA, and USDOE can adopt and use the EIS to support their respective permit decisions after an independent review of the document. The USDOT and NOAA Fisheries cooperated in the preparation of this draft EIS because of their special expertise with respect to resources potentially affected by the proposal. Although the cooperating agencies provided input on the conclusions and recommendations presented in the draft EIS, the agencies will present their own conclusions and recommendations in their respective Records of Decision or other determinations for the Projects.

The proposed Phase II Modification Project includes modification to the previously authorized LNG vessel berthing dock, LNG transfer pipelines, LNG unloading arms, and the access road system and would eliminate or modify components of the previously authorized facility.

The Liquefaction Project consists of facilities at and adjacent to the existing LNG terminal and facilities located beyond Quintana Island. The Liquefaction Plant, located at and adjacent to the existing LNG terminal, would consist of three propane pre-cooled mixed refrigerant liquefaction trains, each capable of producing a nominal 4.4 million metric tons per annum of LNG for export, which equates to a total liquefaction capacity of approximately 1.8 billion cubic feet per day of natural gas.

To support the Liquefaction Plant, Freeport LNG proposes to construct a natural gas Pretreatment Plant located about 2.5 miles north of the existing Quintana Island Terminal. The Pretreatment Plant would process the gas for liquefaction. In addition several interconnecting pipelines and utility lines including a five-mile-long, 12-inch diameter boil-off gas feed pipeline from the Quintana Island terminal to the Pretreatment Plant (referred together as the Pipeline/Utility Line System). The Liquefaction Plant, the Pretreatment Plant, and the Pipeline/Utility Line System, together with the associated appurtenant structures, are collectively referred to as the Liquefaction Project.

The FERC staff mailed copies of the draft EIS to federal, state, and local government representatives and agencies; elected officials; environmental and public interest groups; Native American tribes; potentially affected landowners and other interested individuals and groups; newspapers and libraries in the project area; and parties to this proceeding. Individuals who requested a paper copy, and those who filed a comment will receive hard copy of the draft EIS, and others on our environmental mailing list will receive a CD version of the draft EIS. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before May 5, 2014.

For your convenience, there are four methods you can use to submit your comments to the Commission. In all instances, please reference the project docket numbers (CP12-209-000 or CP12-29-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend the public comment meeting its staff will conduct in the project area to receive comments on the draft EIS. We encourage interested groups and individuals to attend and present oral comments on the draft EIS. Transcripts of the meeting will be available for review in eLibrary under the project docket number.

The draft EIS comment meeting will begin at 6:30 p.m. and is scheduled as follows:

Date | Location
Wednesday, April 16, 2014 | Lake Jackson Civic Center, 333 Highway 332 E, Lake Jackson, TX 77566, (979) 415-2600.

Any person seeking to become a party to the proceeding must file a motion to intervene pursuant to Rule 214 of the Commission's Rules of Practice and Procedures (18 CFR Part 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Questions?

Additional information about the project is available from the Commission's Office of External Affairs, at (866) 208-FERC, or on the FERC Web site (www.ferc.gov) using the eLibrary link. Click on the eLibrary link, click on “General Search,” and enter the docket number excluding the last three digits in the Docket Number field (i.e., CP12-509, CP12-29). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Dated: March 14, 2014.
Kimberly D. Bose,
Secretary.

[FR Doc. 2014-06312 Filed 3-21-14; 8:45 am]

BILLING CODE 6717-01-P